FEDERAL MARITIME COMMISSION

46 CFR Part 520

[Docket No. 00-07]

Public Access Charges to Carrier Automated Tariffs and Tariff Systems Under the Ocean Shipping Reform Act of 1998

AGENCY: Federal Maritime Commission.

ACTION: Proceeding Discontinued.

SUMMARY: The Federal Maritime Commission (“Commission”) published an Advance Notice of Proposed Rulemaking on May 16, 2000, seeking comments on the reasonableness of tariff access charges. The Commission determined not to promulgate regulations governing tariff access charges, but rather issued a Circular Letter on October 6, 2000, to provide guidance to common carriers, conferences and tariff publishers with respect to the issue of reasonable fees. Therefore, this proceeding is discontinued.

DATES: This proceeding is discontinued July 18, 2001.

FOR FURTHER INFORMATION CONTACT: Bruce A. Dombrowski, Executive Director, Federal Maritime Commission, 800 North Capitol Street, NW., Washington, DC 20573, (202) 523-5800.

SUPPLEMENTARY INFORMATION: An Advance Notice of Proposed Rulemaking was issued in this proceeding on May 16, 2000 (65 FR 31130), to address the issue of reasonable fees that may be assessed for accessing tariff systems. Based on comments received and existing circumstances, the Commission determined that promulgation of an actual Proposed Rule on this matter was not necessary. Instead the Commission directed the staff to issue a Circular Letter which provided guidance to common carriers, conferences and tariff publishers as to what costs the Commission believed should not be recovered in establishing tariff access fees. The Circular Letter was issued on October 6, 2000.

In view of the foregoing, this proceeding is hereby discontinued.

By the Commission.
Bryant L. VanBrakle,
Secretary.

[FR Doc. 01-17873 Filed 7-17-01; 8:45 am]

BILLING CODE 6730-01-P